DEPARTMENT OF COMMERCE

International Trade Administration

[A-570-893]

Frozen Warmwater Shrimp From the People's Republic of China: Partial Rescission of Antidumping Duty Administrative Review; 2018-2019

AGENCY: Enforcement and Compliance, International Trade Administration, Department of Commerce.

SUMMARY: The Department of Commerce (Commerce) is partially rescinding its administrative review of the antidumping duty order on frozen warmwater shrimp (shrimp) from the People's Republic of China (China) for the period of review February 1, 2018, through January 31, 2019.

DATES: Applicable October 17, 2019.

FOR FURTHER INFORMATION CONTACT: Jasun Moy or Kabir Archuletta, AD/CVD Operations, Office V, Enforcement and Compliance, International Trade Administration, Department of Commerce, 1401 Constitution Avenue NW, Washington, DC 20230; telephone: (202) 482-8194, or (202) 482-2593, respectively.

SUPPLEMENTARY INFORMATION:

Background

On February 8, 2019, Commerce published in the Federal Register a notice of “Opportunity to Request Administrative Review” of the antidumping duty order on shrimp from China for the period of review February 1, 2018, through January 31, 2019.¹ Pursuant to requests from interested parties, on May 2, 2019, in accordance with section 751(a) of the Tariff Act of 1930, as amended (the Act), and 19 CFR 351.221(c)(1)(i), Commerce initiated an administrative review of the antidumping duty order on shrimp from China with respect to 102 companies.² On June 10, 2019, Ad Hoc Shrimp Trade Action Committee (the petitioner) timely withdrew its requests for an administrative review of all of the companies for which it had requested a review.³

¹ See Antidumping or Countervailing Duty Order, Finding, or Suspended Investigation; Opportunity to Request Administrative Review, 84 FR 2816 (February 8, 2019).

² See Initiation of Antidumping and Countervailing Duty Administrative Reviews, 84 FR 18777 (May 2, 2019).

³ See Petitioner's Letter, “Certain Frozen Warmwater Shrimp from the People's Republic of China: Domestic Producers' Withdrawal of Review Requests,” dated June 10, 2019.

Partial Rescission of the Administrative Review

Pursuant to 19 CFR 351.213(d)(1), Commerce will rescind an administrative review, in whole or in part, if the party that requested the review withdraws its request within 90 days of the publication date of the notice of initiation of the requested review. The petitioner timely withdrew all of its review requests. Because Commerce received no other requests for review for 14 of the companies for which a review was initiated, we are rescinding this review of shrimp from China for the period February 1, 2018, through January 31, 2019, in part, with respect to these 14 entities, in accordance with 19 CFR 351.213(d)(1). These 14 entities are: (1) Dalian Hengtai Foods Co., Ltd.; (2) Dalian Philica Supply Chain Management Co., Ltd.; (3) Dalian Sunrise Foodstuffs Co., Ltd.; (4) Dongwei Aquatic Products (Zhangzhou) Co., Ltd.; (5) Fujian Dongwei Food Co., Ltd.; (6) Fujian Hongao Trade Development Co.; (7) Fujian R & J Group Ltd.; (8) Gallant Ocean Group; (9) Guangdong Rainbow Aquatic Development; (10) Penglai Yuming Foodstuff Co., Ltd.; (11) Rizhao Meijia Keyuan Foods Co. Ltd.; (12) Suizhong Tieshan Food Co., Ltd.; (13) Yangjiang Guolian Seafood Co., Ltd.; and (14) Zhangzhou Xinhui Foods Co., Ltd. The instant review will continue with respect to the remaining companies for which a review was initiated.

Assessment

Commerce will instruct U.S. Customs and Border Protection (CBP) to assess antidumping duties on all appropriate entries. For the companies for which this review is rescinded, antidumping duties shall be assessed at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Order

This notice also serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751 and 777(i)(1) of the Act and 19 CFR 351.213(d)(4).

Dated: October 10, 2019.
James Maeder,
Deputy Assistant Secretary for Antidumping and Countervailing Duty Operations.

[FR Doc. 2019-22665 Filed 10-16-19; 8:45 am]

BILLING CODE 3510-DS-P